DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before December 29, 2008.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and forms:

Title: Change of Bond (Consent of Surety).

OMB Number: 1513-0013.

TTB Form Number: 5000.18.

Abstract: A Change of Bond (Consent of Surety) is executed by both the bonding company and a proprietor and acts as a binding legal agreement between the two parties to extend the terms of a bond. A bond is necessary to cover specific liabilities on the revenue produced from untaxpaid commodities. The Change of Bond (Consent of Surety) is filed with TTB and a copy is retained by TTB as long as it remains current and in force.

Current Actions: We are making minor corrections to this information collection and are submitting it as a revision.

Type of Review: Revision of a currently approved collection.

Affected Public: Business or other for-profit.

Estimated Number of Respondents: 2,000.

Estimated Total Annual Burden Hours: 2,000.

Title: Taxable Articles without Payment of Tax.

OMB Number: 1513-0027.

TTB Form Number: 5200.14.

Abstract: The tobacco manufacturer or export warehouse proprietor is liable for the tax on tobacco products until execution of the certification by Customs or an authorized receiving officer on TTB F 5200.14, which indicates verification of export or bonded transfer. TTB needs this information to protect the revenue. If this TTB form is not properly completed, TTB will assess the tax on the manufacturer of tobacco products or cigarette papers and tubes or on the proprietor of the export warehouse or customs manufacturing warehouse for products not exported or properly disposed of.

Current Actions: We are making minor corrections to this information collection and are submitting it as a revision.

Type of Review: Revision of a currently approved collection.

Affected Public: Business or other for-profit and Federal Government.

Estimated Number of Respondents: 272.

Estimated Total Annual Burden Hours: 59,840.

Title: Application and Permit under 26 U.S.C. 5181—Alcohol Fuel Producer.

OMB Number: 1513-0051.

TTB Form Number: 5110.74.

Abstract: This form is used by persons who wish to produce and receive spirits for the production of alcohol fuels as a business or for their own use and for State and local registration where required. The form describes the person(s) applying for the permit, location of the proposed operation, type of material used for production, and amount of spirits to be produced.

Current Actions: We are making minor corrections to this information collection and are submitting it as a revision.

Type of Review: Revision of a currently approved collection.

Affected Public: Business or other for-profit, Individuals or households, Farms.

Estimated Number of Respondents: 219.

Estimated Total Annual Burden Hours: 394.

Title: Excise Tax Return—Alcohol and Tobacco.

OMB Number: 1513-0083.

TTB Form Number: 5000.24.

Abstract: Businesses report their Federal excise tax liability on distilled spirits, wine, beer, tobacco products, and cigarette papers and tubes on TTB F 5000.24. TTB needs this form to identify the taxpayer and to determine the amount and type of taxes due and paid.

Current Actions: We are making minor corrections to this information collection and are submitting it as a revision.

Type of Review: Revision of a currently approved collection.

Affected Public: Business and other for-profit.

Estimated Number of Respondents: 30,000.

Estimated Total Annual Burden Hours: 22,500.

Title: Excise Tax Return—Alcohol and Tobacco (Puerto Rico).

OMB Number: 1513-0090.

TTB Form Number: 5000.25.

Abstract: Businesses in Puerto Rico report their Federal excise tax liability on distilled spirits, wine, beer, tobacco products, and cigarette papers and tubes on TTB F 5000.25. TTB needs this form to identify the taxpayer and to determine the amount and type of taxes due and paid.

Current Actions: We are making minor corrections to this information collection and are submitting it as a revision.

Type of Review: Revision of a currently approved collection.

Affected Public: Business and other for-profit.

Estimated Number of Respondents: 24.

Estimated Total Annual Burden Hours: 356.

Title: COLAs Online Access Request.

OMB Number: 1513-0111.

TTB Form Number: 5013.2.

Abstract: The information on this form will be used by TTB to authenticate end users on the COLAs Online system who electronically file Certificates of Label Approval (COLAs). The system will authenticate end users by comparing information submitted to records in multiple databases.

Current Actions: We are making minor corrections to this information collection and are submitting it as a revision.

Type of Review: Revision of a currently approved collection.

Affected Public: Business or other for-profit.

Estimated Number of Respondents: 1,147.

Estimated Total Annual Burden Hours: 363.

Title: Formulas for Fermented Products.

OMB Number: 1513-0118.

TTB Reporting Requirement Number: 5052/1.

Abstract: The collection is used, along with other supporting documents, to establish that the standards for production are followed for a given type and style of beer. Also, TTB examines the formula information to determine if the product may be produced at a brewery and if it is to be taxpaid at the rate applicable to beer and sake.

Current Actions: We are making minor corrections to this information collection and are submitting it as a revision.

Type of Review: Revision of a currently approved collection.

Affected Public: Business and other for-profit.

Estimated Number of Respondents: 100.

Estimated Total Annual Burden Hours: 500.

Title: Formula and Process for Alcohol Beverages.

OMB Number: 1513-0122.

TTB Form Number: 5100.51.

Abstract: TTB F 5100.51 is used to determine the classification of distilled spirits, wine, and malt beverages for labeling and for consumer protection. The form describes the person filing, the type of product to be made, and restrictions to the label and/or manufacturing process. The form will be used by TTB to ensure that a product is made and labeled properly and to audit distilled spirits, wine, and malt beverage operations. Records are kept indefinitely for this information collection.

Current Actions: We are making minor corrections to this information collection and are submitting it as a revision.

Type of Review: Revision of a currently approved collection.

Affected Public: Business or other for-profit.

Estimated Number of Respondents: 2,000.

Estimated Total Annual Burden Hours: 8,000.

Dated: October 22, 2008.
Francis W. Foote,
Director, Regulations and Rulings Division.

[FR Doc. E8-25749 Filed 10-28-08; 8:45 am]

BILLING CODE 4810-31-P